FEDERAL MARITIME COMMISSION

Sunshine Act Meeting

AGENCY HOLDING THE MEETING: Federal Maritime Commission.

TIME AND DATE: December 8, 2011—10 a.m.

PLACE: 800 North Capitol Street NW., First Floor Hearing Room, Washington, DC

STATUS: A part of the meeting will be in Open Session and the remainder of the meeting will be in Closed Session.

MATTERS TO BE CONSIDERED:

Open Session

1. Docket No. 11-09: Notice of Inquiry, Solicitation of Views on Proposal of the Ministry of Transport of the People's Republic of China for Adjustment of the Amount for the FMC Optional Bond Rider.

2. Docket No. 05-06: Notice of Inquiry, Non-Vessel-Operating Common Carrier Service Arrangements.

Closed Session

1. FMC Agreement No. 011962-007: Discussion of Proposed Amendment to Consolidated Chassis Management Pool Agreement.

2. Study of the European Union's 2008 Repeal of the Liner Shipping Conference Exemption from Competition Laws-Discussion of Bureau of Trade Analysis Draft.

CONTACT PERSON FOR MORE INFORMATION: Karen V. Gregory, Secretary, (202) 523-5725.

Karen V. Gregory,
Secretary.

[FR Doc. 2011-31228 Filed 12-1-11; 11:15 am]

BILLING CODE 6730-01-P